DEPARTMENT OF ENERGY

Federal Energy Regulatory Commission

[Project No. 13572-000]

Issaquena County Board of Supervisors; Notice of Competing Preliminary Permit Application Accepted for Filing and Soliciting Comments and Motions To Intervene

January 15, 2010.

On August 25, 2009, Issaquena County Board of Supervisors filed an application for a preliminary permit, pursuant to section 4(f) of the Federal Power Act, proposing to study the feasibility of the Fitler Bend Hydrokinetic Project, to be located on the Mississippi River, in East Carroll Parish, Louisiana and Issaquena County, Mississippi.

The sole purpose of a preliminary permit, if issued, is to grant the permit holder priority to file a license application during the permit term. A preliminary permit does not authorize the permit holder to perform any land disturbing activities or otherwise enter upon lands or waters owned by others without the owners' express permission.

The proposed Fitler Bend Hydrokinetic Project consists of: (1) 25 proposed 200 kilowatt Underwater Electric Kite generating units having a total installed capacity of 5 megawatts, mounted to a 200-foot-long by 80-foot-wide barge; (2) a 7-mile-long, 115 kilovolt transmission line; and (3) appurtenant facilities. The proposed Fitler Bend Hydrokinetic Project would have an average annual generation of 43.8 gigawatt-hours.

Applicant Contact: Gene Fulton, President, Issaquena County Board of Supervisors, 132 Court Street, Mayersville, MS 39113; phone: (662) 873-2761.

FERC Contact: Kim Carter, 202-502-6486.

Competing Application: This application competes with Project No. 13481-000 filed May 22, 2009. Competing applications must be filed on or before September 8, 2009.

Deadline for filing comments, motions to intervene: 60 days from the issuance of this notice. Comments, motions to intervene, may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13572) in the docket number field to access the document. For assistance, call toll-free 1-866-208-3372.

Kimberly D. Bose,
Secretary.

[FR Doc. 2010-1390 Filed 1-25-10; 8:45 am]

BILLING CODE 6717-01-P